DEPARTMENT OF HEALTH AND HUMAN SERVICES

Centers for Medicare & Medicaid Services

[CMS-2200-N3]

Medicare Program; Meeting of the State Pharmaceutical Assistance Transition Commission—July 7, 2004

AGENCY: Centers for Medicare & Medicaid Services (CMS), HHS.

ACTION: Notice of meeting.

SUMMARY: This notice announces a public meeting of the State Pharmaceutical Assistance Transition Commission (SPATC). Notice of this meeting is given under the Federal Advisory Committee Act (5 U.S.C. App. 2, section 10(a)(1) and (a)(2)). The SPATC will develop a proposal for addressing the unique transitional issues facing State Pharmaceutical Assistance Programs (SPAPs) and SPAP participants due to the implementation of the voluntary prescription drug benefit program under Part D of title XVIII of the Social Security Act. This notice also announces the appointment of 23 individuals to serve as members of the SPATC, including one individual to serve as chairperson.

DATES: The Meeting: July 7, 2004, 9 a.m.-5 p.m. e.d.s.t.

Deadline for Presentations and Comments: June 29, 2004.

Special Accommodations: Persons attending the meeting who are hearing or visually impaired, or have a condition that requires special assistance or accommodations, are asked to notify the Executive Secretary by June 29, 2004 (see FOR FURTHER INFORMATION CONTACT).

ADDRESSES: The Meeting: The meeting will be held at the following address: Holiday Inn, Washington-On The Hill, 415 New Jersey Avenue, NW., Washington, DC 20001, United States, toll-free 1 (800) 638-1116, telephone: 1 (202) 638-1616, fax: 1 (202) 638-0707.

Presentations and Comments: Submit formal presentations and written comments to Marge Watchorn, Executive Secretary, Center for Medicaid and State Operations, Centers for Medicare & Medicaid Services, 7500 Security Boulevard, Mail Stop S2-01-16, Baltimore, MD 21244. In the interest of time, please also send an electronic copy of your presentation to mwatchorn@cms.hhs.gov and indicate whether you will need special equipment for your presentation.

Web site: You may access up-to-date information on this meeting at http://www.cms.hhs.gov/faca/spatc/details.asp.

Hotline: You may also access up-to-date information on this meeting on the CMS Advisory Committee Information Hotline, 1 (877) 449-5659 (toll free) or in the Baltimore area (410) 786-9379.

FOR FURTHER INFORMATION CONTACT: Marge Watchorn, Executive Secretary, (410) 786-4361.

SUPPLEMENTARY INFORMATION: On February 27, 2004, we published a notice (69 FR 9326) requesting nominations for individuals to serve on the State Pharmaceutical Assistance Transition Commission (SPATC). On March 5, 2004, we published a notice (69 FR 10455) announcing the establishment of the SPATC and the signing by the Secretary on March 1, 2004, of the charter establishing the SPATC. This notice announces the first public meeting of the SPATC. This notice also announces the appointment of 23 individuals to serve as members of the SPATC, including one individual to serve as chairperson.

SPATC Members: Joan Henneberry (Chairperson), Clifford Barnes, Donna Boswell, James Chase, David Clark, Jay Currie, Barbara Edwards, Nora Dowd Eisenhower, Janice Faiks, Karen Greenrose, Dr. Dewey Garner, Laurie Hines, Joseph Kelley, Mary Liveratti, Dr. Anne Marie Murphy, Julie Naglieri, Elizabeth Rohn-Nelson, Robert Power, Susan Reinhard, Sybil Richard, Marc Ryan, Linda Schofield, and Martin Schuh.

Topics of the Meeting: The Commission will discuss the unique transitional issues facing State Pharmaceutical Assistance Programs (SPAPs) and SPAP participants due to the implementation of the voluntary prescription drug benefit program under Part D of title XVIII of the Act. The Commission may discuss the need to divide into sub-groups for the purpose of focusing on particular issues within this broad subject, including a discussion of which members would serve on which sub-group.

Procedure and Agenda: This meeting is open to the public. First, the appointees will be sworn in by a Federal official. Each Commission member will then be given an opportunity to make a self-introduction.

The Commission will hear oral presentations from the public. The Commission may limit the number and duration of oral presentations to the time available. If you wish to make a formal presentation, you must notify the Executive Secretary named in the FOR FURTHER INFORMATION CONTACT section of this notice, and submit the following by the deadline listed in the DATES section of this notice: (1) A brief statement of the general nature of the evidence or arguments you wish to present; (2) the names and addresses of proposed participants; and (3) an estimate of the time required to make the presentation. A written copy of your presentation must be provided to the Executive Secretary before offering your public comments. We will request that you declare at the meeting whether or not you have any financial involvement with manufacturers of any items or services being discussed (or with their competitors).

After the public and CMS presentations, the Commission will deliberate openly on the topic. Interested persons may observe the deliberations, but the Commission will not hear further comments during this time except at the request of the Chairperson. The Commission will also allow an open public session for any attendee to address issues specific to the topic.

Authority: 5 U.S.C. App. 2, section 10(a)(1) and (a)(2).

(Catalog of Federal Domestic Assistance Program No. 93.774, Medicare—Supplementary Medical Insurance Program)
Dated: June 10, 2004.
Mark B. McClellan,
Administrator, Centers for Medicare & Medicaid Services.

[FR Doc. 04-13786 Filed 6-17-04; 8:45 am]

BILLING CODE 4120-01-P